DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by November 15, 2004.

Title, Form, and OMB Number: Application for former Spouse Payments From Retired Pay; DD Form 2293; OMB Control Number 0730-0008.

Type of Request: Revision.

Number of Respondents: 23,481.

Responses Per Respondent: 1.

Annual Responses: 23,481.

Average Burden Per Response: 15 minutes.

Annual Burden Hours: 5,870.

Needs and Uses: Under 10 U.S.C. 1408, State courts may divide military retired pay as property or order alimony and child support payments from that retired pay. The former spouse may apply to the Defense Finance and Accounting Service (DFAS) for direct payment of these monies by using DD Form 2293. This information collection is needed to provide DFAS the basic data needed to process the request.

Affected Public: Individuals or households.

Frequency: On occasion.

Respondent's Obligation: Required to obtain or retain benefits.

OMB Desk Officer: Ms. Jacqueline Zeiher.

Written comments and recommendations on the proposed information collection should be sent to Ms. Zeiher at the Officer of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: October 5, 2004.
Patricia L. Toppings,
Alternate OSD Federal Register Liaison Officer, Department of Defense.

[FR Doc. 04-22971 Filed 10-13-04; 8:45 am]

BILLING CODE 5001-06-M